SURFACE TRANSPORTATION BOARD

[Docket No. MCF 21141]

Van Pool Transportation LLC and Ag Van Pool Holdings, LP—Continuance in Control—Rolling V Bus Corp. and STS of New Mexico, LLC

AGENCY: Surface Transportation Board.

ACTION: Notice Tentatively Approving and Authorizing Continuance in Control.

SUMMARY: On November 26, 2025, Van Pool Transportation LLC (Van Pool) and AG Van Pool Holdings, LP (AG Holdings) (collectively, Applicants), both noncarriers, seek Board approval to continue in control of two of Applicants' subsidiaries—Rolling V Bus Corp. (Rolling V) and STS of New Mexico, LLC (STS)—upon Rolling V and STS becoming federally regulated passenger motor carriers. The Board is tentatively approving and authorizing the proposed continuance in control. If no opposing comments are timely filed, this notice will be the final Board action.

DATES: Comments must be filed by February 6, 2026. If any comments are filed, Applicants may file a reply by February 23, 2026. If no opposing comments are filed by February 6, 2026, this notice shall be effective on February 7, 2026.

ADDRESSES: Comments, referring to Docket No. MCF 21141, may be filed with the Board either via e-filing on the Board's website or in writing addressed to: Surface Transportation Board, 395 E Street SW, Washington, DC 20423-0001. In addition, send one copy of comments to Applicants' representative: Kiefer A. Light, Beacon Mobility Corp., 3700 Embassy Parkway, Suite 500, Akron, OH 44333.

FOR FURTHER INFORMATION CONTACT: Amy Ziehm at (202) 918-5462. If you require an accommodation under the Americans with Disabilities Act, please call (202) 245-0245.

SUPPLEMENTARY INFORMATION: According to the application, Van Pool is a Delaware limited liability company indirectly controlled by AG Holdings through intermediary holding companies.¹ (Appl. 2-3.) Neither Van Pool nor AG Holdings is a federally regulated carrier. (Id.) However, Van Pool directly owns and controls all equity and voting interest in the following 22 interstate passenger motor carriers (the Affiliated Carriers): ²

¹ Specifically, Applicants state that Van Pool is wholly owned by VP Intermediate Company (VP Intermediate), a Delaware corporation and noncarrier holding company, and that VP Intermediate is wholly owned by Beacon Mobility Corp. (Beacon Mobility), a Delaware corporation and noncarrier holding company. (Appl. 14.) Beacon Mobility is wholly owned by Beacon Mobility Intermediate Corp. (Beacon Intermediate), a Delaware corporation and noncarrier holding company. (Id.) Beacon Intermediate is wholly owned by Beacon Mobility Preferred Issuer, LLC (Beacon Preferred), a Delaware limited liability company and noncarrier holding company, and Beacon Preferred is wholly owned by Van Pool Group Holdings, L.P. (Group Holdings), a Delaware limited partnership and noncarrier holding company. (Id.) Group Holdings is majority-owned and controlled by AG Holdings, a Delaware limited partnership and noncarrier holding company. (Id.) AG Holdings is owned by investment funds affiliated with Audax Management Company, LLC (the Audax Funds), a Delaware limited liability company. (Id. at 14.) According to Applicants, none of these entities has interstate passenger motor carrier authority, a U.S. Department of Transportation (USDOT) Number, or a USDOT Safety Rating, and none of the entities control any regulated interstate passenger carriers other than as set forth in the application. (Id.)

² Additional information about these motor carriers, including principal place of business, USDOT numbers, motor carrier numbers, USDOT safety fitness ratings, fleet composition, and driver count, can be found in the application. (See Appl., Ex. A.)

• NRT Bus, Inc., which primarily provides non-regulated student transportation services for schools in Massachusetts (Essex, Middlesex, Norfolk, Suffolk, and Worcester Counties), and occasional charter services, (Id. at 4);

• Trombly Motor Coach Service, Inc., which primarily provides non-regulated student transportation services for schools in Massachusetts (Essex and Middlesex Counties), and occasional charter services, (id.);

• Salter Transportation, Inc., which primarily provides non-regulated student transportation services for schools in Massachusetts (Essex County) and New Hampshire, and occasional charter services, (id. at 4-5);

• Easton Coach Company, LLC, which provides (i) intrastate paratransit, shuttle, and line-run services under contracts with regional transportation authorities and other organizations, primarily in New Jersey and eastern Pennsylvania, and (ii) private intrastate and interstate charter motor coach and shuttle services, primarily in eastern Pennsylvania, (id. at 5);

• F. M. Kuzmeskus, Inc., dba Travel Kuz, which provides (i) non-regulated school bus transportation services, (ii) intrastate and interstate motor coach and limousine charter services, and (iii) limited intrastate and interstate charter services using school buses, all in western Massachusetts and southern Vermont, (id. at 5-6);

• Alltown Bus Service Inc. (Alltown), which primarily provides non-regulated student transportation services for schools in the metropolitan area of Chicago, Ill., and its northern suburbs. Alltown also provides occasional charter services, (id. at 6);

• DS Bus Lines, Inc., which primarily provides (i) non-regulated student transportation services for schools in Kansas (Beloit, Kansas City, Lincoln, Olathe, and Shawnee), Missouri (Belton and Smithville), Colorado (the metropolitan area of Denver), and Oklahoma (the metropolitan area of Tulsa), (ii) intrastate employee shuttle services in Colorado and Texas, and (iii) occasional charter services, (id.);

• Royal Coach Lines, Inc., which primarily provides (i) non-regulated student transportation services for schools in the metropolitan area of Westchester County, NY, and southern Connecticut and (ii) contract and charter transportation services in the same areas for activities such as summer camps, events, and group trips, (id. at 6-7);

• Local Motion, LLC, which provides non-regulated school bus, charter, and shuttle services in the metropolitan area of Boston, Mass., (id. at 7);

• Butler's Bus Service, Inc. (BBS), which primarily provides non-regulated student transportation services for schools in the New Hampshire cities of Manchester, North Haverhill, Milford, and Center Barnstead, and the Vermont cities of Orleans, Lyndonville, and White River Junction. BBS also provides occasional charter services, (id.);

• TransAction Corporate Shuttles, Inc., which provides shuttle, on-demand transportation, and charter services in Massachusetts, (id. at 7-8);

• Dell Transportation Corp. (Dell), which primarily provides non-regulated student transportation for schools, and occasional charter services. The geographic service area of Dell is primarily the towns of Hempstead, NY, Port Washington, NY, and Great Neck, NY, (id. at 8);

• Hendrickson Bus Corporation (Hendrickson), which primarily provides non-regulated student transportation for schools, and charter transportation for school-related extracurricular activities such as athletic events, field trips, and other school-sponsored functions. The geographic service area of Hendrickson is primarily Bayville, NY, and Port Washington, NY, (id.);

• Huntington Coach Corporation (Huntington Corp.), which provides primarily non-regulated student transportation for schools, and charter transportation for school-related extracurricular activities such as athletic events, field trips, and other school-sponsored functions. The geographic service area that Huntington Corp. serves is primarily Northport, NY, and Huntington Station, NY, (id. at 8-9);

• Huntington Coach, LLC (Huntington LLC), which primarily provides non-regulated student transportation for schools, and charter transportation for school-related extracurricular activities such as athletic events, field trips, and other school-sponsored functions. The geographic service area of Huntington LLC is primarily Huntington Station, NY, (id. at 9);

• Towne Bus Corp. (Towne Corp.), which primarily provides non-regulated student transportation for schools, and charter transportation for school-related extracurricular activities such as athletic events, field trips, and other school-sponsored functions. The geographic service area of Towne Corp. is primarily Long Island, NY, (id.);

• Towne Bus LLC (Towne LLC), which primarily provides non-regulated student transportation for schools, and transportation for school-related extracurricular activities such as athletic events, field trips, and other school-sponsored functions. The geographic service area of Towne LLC is primarily Long Island, NY, (id. at 9-10);

• Van Trans LLC (Van Trans), which primarily provides non-regulated student transportation for schools, and transportation for school-related extracurricular activities such as athletic events, field trips, and other school-sponsored functions. The geographic service area of Van Trans is primarily Bronx, NY, (id. at 10);

• WE Transport (NY) LLC (WE NY), which primarily provides non-regulated student transportation for schools, and transportation for school-related extracurricular activities such as athletic events, field trips, and other school-sponsored functions. The geographic service area of WE NY is primarily Long Island, NY, (id.);

• WE Transport LLC (Connecticut) (WE CT), which primarily provides non-regulated student transportation for schools, and transportation for school-related extracurricular activities such as athletic events, field trips, and other school-sponsored functions. The geographic service area of WE CT is primarily Bridgeport, Conn., (id. at 10-11);

• WE Transport, Inc. (WE Transport), which primarily provides non-regulated student transportation for schools, and transportation for school-related extracurricular activities such as athletic events, field trips, and other school-sponsored functions. The geographic service area of WE Transport is primarily Long Island, NY, (id. at 11); and

• George M. Carroll Transportation, Inc., dba George M. Carroll Inc. (GMCT), which primarily provides (i) regular home-to-school transportation services, with a focus on special needs students and (ii) charter services that primarily involve transportation to and from school-related extracurricular activities such as athletic events, field trips, and other school-sponsored functions, with a focus on special needs students. GMCT also provides occasional non-school-related charter services for special occasions such as weddings, wine tours, proms, sporting events, and airport trips. The geographic service area of GMCT is primarily within Orange County, NY, (id. at 11-12).

Additionally, on December 12, 2025, the Board published notice tentatively approving Applicants' acquisition of control of Lavdas Enterprises, Inc., dba Lavdas Limousines, Inc. (Lavdas) (90 FR 57803). See Van Pool Transp. LLC—Acquis. of Control—Lavdas Enters., Inc. (Lavdas Transaction), MCF 21140 (STB served Dec. 12, 2025); (see also Appl. 11 n.2). Lavdas primarily provides luxury charter transportation service in southeast Michigan. Lavdas Transaction, MCF 21140, slip op. at 5. On rare occasions, Lavdas's charter operations include interstate service into surrounding states, including Illinois. (Id.) If no opposing comments are timely filed in Docket No. MCF 21140 with respect to Applicants' acquisition of control of Lavdas, Applicants will control 23 interstate passenger motor carriers as of January 27, 2026.

In the present application, Applicants seek Board approval to continue in control of Rolling V and STS upon those entities obtaining approval from the Federal Motor Carrier Safety Administration (FMCSA) to operate as regulated passenger motor carriers. Rolling V is a New York corporation that currently operates as a motor carrier primarily providing non-regulated home-to-school transportation services in addition to intrastate charter, shuttle, and transit services within the State of New York, particularly the cities of Walton, Livingston Manor, Neversink, Liberty, South Fallsburg, and Ellenville. (Appl. 12.) STS is a New Mexico limited liability company that currently operates as a motor carrier primarily providing home-to-school and charter student transportation services within Dona Ana County, NM, particularly the City of Las Cruces and its surrounding areas. (Id. at 12-13.) According to Applicants, both Rolling V and STS currently operate exclusively in intrastate commerce but are seeking FMCSA's approval to expand their existing charter operations to include interstate service. (Id. at 12.) The application indicates that the interstate service provided by Rolling V and STS, if authorized, is expected to be, in both the near-term and the long-term, an insignificant proportion of overall service by those entities. (Id.)

Under 49 U.S.C. 14303(b), the Board must approve and authorize a transaction that it finds is consistent with the public interest, taking into consideration at least (1) the effect of the proposed transaction on the adequacy of transportation to the public, (2) the total fixed charges resulting from the proposed transaction, and (3) the interest of affected carrier employees. Here, Applicants have submitted the information required by 49 CFR 1182.2, including (1) information to demonstrate that Applicants' continuance in control of Rolling V and STS, upon those entities becoming regulated passenger motor carriers, is consistent with the public interest under 49 U.S.C. 14303(b), see 49 CFR 1182.2(a)(7); and (2) a jurisdictional statement under 49 U.S.C. 14303(g) that the aggregate gross operating revenues of the involved carriers exceeded $2 million during a consecutive 12-month period ending not more than six months before the date of the agreement of the parties, see 49 CFR 1182.2(a)(5). (See Appl. 15-18.)

Applicants do not expect the proposed continuance in control to have a material, detrimental impact on the adequacy of transportation services available to the public. (Id. at 15.) According to Applicants, services available to the public will be improved as operating efficiencies are realized and additional services and capacity are made available. (Id.) Applicants add that their continuance in control of Rolling V and STS is consistent with the practices within the passenger motor carrier industry of strong, well-managed transportation organizations adapting their corporate structure to operate several different passenger carriers within similar service markets, but in different geographic areas. (Id. at 15-16.) Applicants state that the interstate charter services to be provided by Rolling V and STS would supplement the home-to-school student transportation services that those entities currently provide; that each of these market segments have their own service characteristics; and that Applicants' continuance in control of Rolling V and STS is expected to result in improved operating efficiencies, increased equipment utilization rates, and cost savings derived from economies of scale, all of which will help to ensure the provision of adequate service to the public. (Id.)

Applicants assert that the impact of the transaction on the regulated motor carrier industry will be minimal at most. (Id. at 18.) According to Applicants, demand for school bus transportation and charter services in the areas served by Rolling V and STS is strong and is expected to increase in the foreseeable future. (Id. at 17.) Applicants assert that the markets that Rolling V and STS serve are very competitive due to the significant number of national, regional, and local providers operating in those markets. (Id. at 17-18.) Applicants state that, with respect to Rolling V, competing providers include Student Transportation of America, First Student, and Durham School Services. (Id. at 18.) Applicants further state that, with respect to STS, competing providers include All Aboard America, Greyhound Lines, and El Paso Limousine. (Id.) Applicants also state that Rolling V's service area and STS' service area are geographically dispersed from service areas of the 22 regulated carriers that Applicants control at present and that there is very limited overlap in customer bases as between those 22 regulated carriers and Rolling V and STS. (Id. at 18.) The same appears to be true with respect to Lavdas; Rolling V operates primarily in New York, STS operates primarily in New Mexico, and Lavdas operates primarily in southeast Michigan.

Applicants assert that their continuance in control of Rolling V and STS will not result in an increase in fixed charges. (Id. at 16.)

According to Applicants, their continuance in control of Rolling V and STS is not expected to have a substantial impact on employees or labor conditions. (Id.) Applicants state that Rolling V and STS intend to provide the prospective interstate service using employee drivers that are already qualified to provide interstate charter bus service. (Id.) Applicants further state that they do not anticipate a measurable increase in force or changes in compensation levels and/or benefits associated with their continuance in control. (Id.)

Based on their representations, the Board finds that Applicants' continuance in control of Rolling V and STS is consistent with the public interest. The application will be tentatively approved and authorized. If any opposing comments are timely filed, these findings will be deemed vacated, and, unless a final decision can be made on the record as developed, a procedural schedule will be adopted to reconsider the application. See 49 CFR 1182.6. If no opposing comments are filed by expiration of the comment period, this notice will take effect automatically and will be the final Board action in this proceeding.

This action is categorically excluded from environmental review under 49 CFR 1105.6(c).

Board decisions and notices are available at www.stb.gov.

It is ordered:

1. Applicants' continuance in control of Rolling V and STS upon their becoming federally regulated passenger motor carriers is approved and authorized, subject to the filing of opposing comments.

2. If opposing comments are timely filed, the findings made in this notice will be deemed vacated.

3. This notice will be effective on February 7, 2026, unless opposing comments are filed by February 6, 2026. If any comments are filed, Applicants may file a reply by February 23, 2026.

4. A copy of this notice will be served on: (1) the U.S. Department of Transportation, Federal Motor Carrier Safety Administration, 1200 New Jersey Avenue SE, Washington, DC 20590; (2) the U.S. Department of Justice, Antitrust Division, 10th Street & Pennsylvania Avenue NW, Washington, DC 20530; and (3) the U.S. Department of Transportation, Office of the General Counsel, 1200 New Jersey Avenue SE, Washington, DC 20590.

Decided: December 18, 2025.
By the Board, Board Members Fuchs, Hedlund, and Schultz.
Aretha Laws-Byrum,
Clearance Clerk.

[FR Doc. 2025-23725 Filed 12-22-25; 8:45 am]

BILLING CODE 4915-01-P